FEDERAL COMMUNICATIONS COMMISSION

47 CFR Part 73

[DA 07-61; MB Docket No. 00-53; RM-10479, RM-10770]

Radio Broadcasting Services; Eldorado, Fort Stockton, Mason and Mertzon, TX

AGENCY: Federal Communications Commission.

ACTION: Final rule, denial.

SUMMARY: This document denies a Petition for Reconsideration filed by Bryan A. King, successor to BK Radio, directed to the Report and Order in this proceeding. With this action, the proceeding is terminated.

FOR FURTHER INFORMATION CONTACT: Robert Hayne, Media Bureau (202) 418-2177.

SUPPLEMENTARY INFORMATION: This is a synopsis of the Memorandum Opinion and Order in MB Docket No. 00-53, adopted January 10, 2007, and released January 12, 2007. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will not send a copy of this Memorandum Opinion and Order pursuant to the Congressional Review Act, see 5 U.S.C. 801(a)(1)(A), because the petition for reconsideration was dismissed.

List of Subjects in 47 CFR Part 73

Radio, Radio broadcasting.

Federal Communications Commission.
John A. Karousos,
Assistant Chief, Audio Division, Media Bureau.

[FR Doc. E7-1012 Filed 1-23-07; 8:45 am]

BILLING CODE 6712-01-P